OFFICE OF PERSONNEL MANAGEMENT

5 CFR Part 531

[Docket ID: OPM-2023-0009]

RIN 3206-AO58

General Schedule Locality Pay Areas

AGENCY: Office of Personnel Management.

ACTION: Final rule.

SUMMARY: The Office of Personnel Management is issuing final regulations on behalf of the President's Pay Agent to change the geographic boundaries of General Schedule locality pay areas. The changes in locality pay area definitions under these final regulations will be applicable on the first day of the first applicable pay period beginning on or after January 1, 2024. The locations that will be included in a locality pay area separate from the Rest of U.S. locality pay area under these final regulations have all met criteria previously recommended by the Federal Salary Council and approved by the Pay Agent for nationwide use in the locality pay program.

DATES: The regulations are effective on December 18, 2023. The regulations are applicable for pay purposes on the first day of the first applicable pay period beginning on or after January 1, 2024.

FOR FURTHER INFORMATION CONTACT: Joe Ratcliffe by email at pay-leave-policy@opm.gov or by telephone at (202) 606-2858.

SUPPLEMENTARY INFORMATION:

Summary of Final Rule

The changes these final regulations make in locality pay area definitions include linking geographic boundaries of locality pay areas to the updated definitions of metropolitan statistical areas and combined statistical areas (MSAs and CSAs, respectively) in Office of Management and Budget (OMB) Bulletin No. 20-01; establishing four new locality pay areas having pay disparities significantly exceeding that for the Rest of U.S. locality pay area over an extended period; and changing the criteria by which locations adjacent to an MSA or CSA comprising a basic locality pay area can be included in the locality pay area as an area of application. However, while any location may be subject to a change in locality pay area designation in the future based on a recommendation by the Federal Salary Council which is approved by the Pay Agent, locations that are currently in a locality pay area other than the Rest of U.S. locality pay area and would otherwise be redesignated as part of a lower-paying locality pay area due to application of approved criteria will remain in their current locality pay area under these final regulations.

The four new locality pay areas established by the final regulations are Fresno-Madera-Hanford, CA; Reno-Fernley, NV; Rochester-Batavia-Seneca Falls, NY; and Spokane-Spokane Valley-Coeur d'Alene, WA-ID. Locality pay rates for these four areas will be set by the President.

Background

Section 5304 of title 5, United States Code (U.S.C.), authorizes locality pay for General Schedule (GS) employees with duty stations in the United States and its territories and possessions. Paragraph (f) of 5 U.S.C. 5304 authorizes the President's Pay Agent (the Secretary of Labor, the Director of the Office of Management and Budget (OMB), and the Director of the Office of Personnel Management (OPM)) to determine locality pay areas. The boundaries of locality pay areas are based on appropriate factors, which may include local labor market patterns, commuting patterns, and the practices of other employers. The Pay Agent considers the views and recommendations of the Federal Salary Council (“the Council”), a body composed of experts in the fields of labor relations and pay policy and representatives of Federal employee organizations. The President appoints the members of the Council, which submits annual recommendations to the Pay Agent about the administration of the locality pay program, including the geographic boundaries of locality pay areas. (The Council's recommendations are posted on the OPM website at https://www.opm.gov/policy-data-oversight/pay-leave/pay-systems/general-schedule/#url=Federal-Salary-Council.) The establishment or modification of pay area boundaries conforms to the notice and comment provisions of the Administrative Procedure Act (5 U.S.C. 553).

On June 28, 2023, OPM published a proposed rule in the Federal Register on behalf of the Pay Agent to propose the changes summarized above. (See 88 FR 41855.) The proposed rule provided a 30-day comment period. Accordingly, the Pay Agent reviewed comments received through July 28, 2023. After considering those comments, the Pay Agent has decided to implement the locality pay area definitions identified in the proposed rule, except that the Washington State Counties of Clallam and Jefferson are added as areas of application to the Seattle-Tacoma, WA, locality pay area.

Comments on the Proposed Rule

OPM received 405 comments on the proposed rule. Most commenters supported the proposed changes in the geographic definitions of locality pay areas.

A number of comments reflected misunderstanding of the proposed rule's geographic definitions of locality pay areas, with some comments indicating a mistaken belief that certain counties actually included in a proposed locality pay area were excluded and that a correction would therefore be needed prior to publication of a final rule. As explained in the proposed rule, locality pay areas consist of (1) the MSA or CSA comprising the basic locality pay area and, where criteria recommended by the Council and approved by the Pay Agent are met, (2) areas of application. These comments all expressed concern about locations which, while not listed as individual counties in paragraph (b) of § 531.603, were all included in the MSA or CSA listed for the locality pay area and therefore did not need to be listed as individual counties. OPM plans to post the definitions of locality pay areas at the county level on its website after these final regulations are issued.

Many commenters expressed the belief that various indicators of living costs are or should be considered in defining locality pay areas or in setting locality pay rates. Under 5 U.S.C. 5304, locality pay rates are based on comparisons of GS pay and non-Federal pay at the same work levels in a locality pay area rather than on any consideration of local living costs. Relative living costs may indirectly affect non-Federal pay levels, but living costs are just one of many factors that affect the supply of and demand for labor, and therefore labor costs, in a locality pay area. A comparison of living costs between geographic areas is not permitted under the locality pay law, but even if it were, it would not be a reliable indicator of local labor costs.

Many commenters proposed that a change in locality pay designation be made for locations that have not met the standard criteria for such designation that the proposed rule explained. As noted in the Pay Agent's December 2022 annual report (available at https://www.opm.gov/policy-data-oversight/pay-leave/pay-systems/general-schedule/pay-agent-reports/2021report.pdf), the P ay Agent agrees with the Council that locality pay areas should continue to be defined by consistently applying standard criteria to all locations throughout the country. However, the Pay Agent also agrees with the Council that stakeholder input regarding the criteria used to define and establish locality pay areas can be helpful to the Council as it continues to consider what criteria are best to apply consistently for all locations throughout the country for purposes of establishing locality pay area boundaries. Stakeholders concerned about the criteria used in the locality pay program may submit input to the Council.

In some cases, commenters arguing for exceptions to the use of standard criteria cited possible recruitment and retention difficulties they said they believed agencies would have in certain locations that would remain in the Rest of U.S. locality pay area when these final regulations are put into effect. The Pay Agent has no evidence that the changes these final regulations will make in locality pay area definitions will create recruitment and retention challenges for Federal employers, and it has been the case since the very first locality pay areas were established for January 1994 that many counties with Federal employees are in the Rest of U.S. locality pay area while being adjacent to a separate locality pay area. However, should recruitment and retention challenges exist in a location, Federal agencies have considerable administrative authority to address those challenges through the use of current pay flexibilities. Information on these flexibilities is posted on the OPM website at https://www.opm.gov/policy-data-oversight/pay-leave/pay-and-leave-flexibilities-for-recruitment-and-retention/.

A number of commenters expressed concern that various rural locations have not been established as separate locality pay areas. In some cases, comments expressing such concerns reflected a mistaken belief that such locations have not been established as separate locality pay areas based solely on the relatively small numbers of GS employees they often have. The proposed rule does mention that when the Council began using the current salary survey methodology in 2012, selection of Rest of U.S. research areas was limited to MSAs and CSAs having 2,500 or more GS employees. However, the proposed rule also explains that the Council has begun requesting that the Bureau of Labor Statistics (BLS) deliver non-Federal salary estimates for areas that had fewer than 2,500 GS employees, that so far BLS resources have allowed for delivery of NCS/OEWS estimates for 10 such statistical areas, and that those 10 areas had the highest levels of GS employment among areas not previously established as Rest of U.S. research areas. Also, the Council has indicated that it plans to continue its work with BLS to establish more Rest of U.S. research areas where feasible in MSAs and CSAs with fewer than 2,500 GS employees. Thus, the proposed rule does not imply that locations are excluded from consideration based on their GS employment alone. Rather, rural locations that have not been recommended for a change in their locality pay area designation do not meet the criteria that the proposed rule explained.

Regarding the criteria by which four new locality pay areas will be established under these final regulations, some commenters expressed concern regarding the BLS conclusion that it is not feasible for the BLS salary survey methodology to produce reliable salary estimates for micropolitan statistical areas or rural counties. One commenter characterized that conclusion as unacceptable and opined that all locations throughout the country should have pay disparities calculated regardless of that BLS conclusion. In response to these concerns, the Pay Agent notes that a pay disparity calculated for purposes of locality pay must have sufficient occupational and work level coverage for non-Federal positions that are comparable to GS positions in the same locality pay area, and micropolitan statistical areas and rural counties do not have enough non-Federal salary data to calculate reliable pay disparities in the same way as with MSAs and CSAs because of the relatively small populations and labor markets typical of such locations.

Some commenters disagreed it is appropriate to use March 2020 OMB-defined metropolitan areas to define locality pay areas as proposed. Some of those commenters made living-cost comparisons between Rest of U.S. locations and portions of March 2020 OMB metropolitan areas that comprise basic locality pay areas. Other commenters suggested that locality pay area boundaries should be defined based not on March 2020 OMB-defined metropolitan areas but rather on the boundaries of sets of duty stations comprising entire states, national parks, the regional definitions agencies may use for their workforces, or other data or information the commenters regarded as relevant with respect to locations of concern to them. Under the final regulations, the boundaries of locality pay areas will reflect the use of OMB-defined metropolitan areas described in the proposed rule.

Prior to implementation of locality pay, the Council recommended, and the Pay Agent approved, the use of OMB-defined metropolitan areas as the basis for locality pay area boundaries, and OMB-defined metropolitan areas have been the basis for locality pay area boundaries since locality pay was implemented in 1994. (A detailed history of the use of OMB-defined metropolitan areas in the locality pay program can be found in the Council's January 2014 recommendations available at https://www.opm.gov/policy-data-oversight/pay-leave/pay-systems/general-schedule/federal-salary-council/recommendation13.pdf.) The Pay Agent continues to believe it is appropriate to use OMB-defined metropolitan areas as the basis for locality pay area boundaries and has no evidence that it is appropriate to split an OMB-defined metropolitan area into separate locality pay areas. Since OMB-defined metropolitan areas will continue to serve as the basis for locality pay area boundaries, the Pay Agent believes it makes sense to update the metropolitan areas used in the locality pay program to the March 2020 OMB-defined metropolitan areas, since the definitions of those metropolitan areas reflect more recent information on population distribution and commuting patterns. (Regarding the definitions of metropolitan areas in OMB Bulletin No. 23-01, which was issued on July 21, 2023, the Council can consider whether to recommend their use for purposes of defining locality pay areas for 2025.) Departing from the practice of defining basic locality pay areas based on OMB-defined metropolitan areas as in the proposed rule would be a significant change, and the implications would have to be carefully considered. Individuals interested in recommending alternatives for defining locality pay areas using standard criteria nationwide may provide input to the Council.

Some commenters suggested that all portions of California should be covered by a higher locality pay percentage than for the Rest of U.S. locality pay area, with one commenter noting that the entire states of Alaska and Hawaii each comprise a single locality pay area and suggesting the same thing could be done for the state of California. These final regulations will provide the same locality pay area designations within California as the proposed rule proposed. The establishment of Alaska and Hawaii as locality pay areas was part of the Nonforeign Areas Retirement Equity Assurance Act of 2009 (NAREAA) (as contained in subtitle B of title XIX of the National Defense Authorization Act for Fiscal Year 2010 (Pub. L. 111-84, October 28, 2009), which does not cover locations in California or other portions of the contiguous United States. As explained more fully in 76 FR 32859, the Pay Agent established the states of Alaska and Hawaii as locality pay areas effective July 7, 2011. That change was consistent with the sense of the Congress statement in NAREAA that the two states each would be covered by a single separate locality pay area.

Some comments were outside of the scope of these regulations. For example, some commenters suggested specific pay levels they claimed should be implemented for one or more locality pay areas. Other commenters expressed concern that employees covered by certain Federal pay systems outside of the General Schedule, such as the Federal Wage System, would not benefit from the changes planned for the geographic definitions of GS locality pay areas. Some commenters offered views on changes they think should be made to the General Schedule that would require changes in law, such as eliminating the statutory pay limitation that limits locality pay rates to the rate for level IV of the Executive Schedule (5 U.S.C. 5304 (g)(1)).

The purpose of these regulations is to define the boundaries of locality pay areas established for the General Schedule pay system and other pay systems that receive locality pay under 5 U.S.C. 5304, not to determine locality pay percentages, adjust location coverage for pay systems that do not receive locality pay under 5 U.S.C. 5304, or consider ideas for reforms to the General Schedule that would require changes in law.

One commenter suggested the final regulations include Clallam and Jefferson Counties, WA, in the Seattle locality pay area as areas of application (https://www.regulations.gov/comment/OPM-2023-0009-0226). The Council recommended in its February 4, 2023 report (https://www.opm.gov/policy-data-oversight/pay-leave/pay-systems/general-schedule/federal-salary-council/recommendation22.pdf) that the Washington State Counties of Clallam and Jefferson be included in the Seattle-Tacoma, WA, locality pay area as areas of application. Because the Pay Agent was still considering the Council's recommendation regarding Clallam and Jefferson Counties for locality pay in January 2024 when OPM published the proposed rule, these counties were not included as proposed areas of application.

The commenter recommended the two counties be included in the Seattle locality pay area because the Council recommended in its February 4, 2023, annual report that the Pay Agent do so. In addition, review of the report of the Council Working Group read into the record at the Council's public meeting held on October 28, 2022, has provided additional context for the Council's February 2023 recommendation and provides further justification to support the commenter's recommendation. With respect to isolation as a Rest of U.S. location, Jefferson County is analogous to an island location such as San Juan County, WA, which the proposed rule and final regulations both include in the Seattle locality pay area as an area of application. Jefferson County is located on the Olympic Peninsula within western Washington State and is divided by the Olympic Mountains into an eastern portion and a western portion with no access by road between those two portions without crossing into either Clallam County, WA, or Grays Harbor County, WA. The western portion is bordered by the Pacific Ocean coastline, and the eastern portion is bordered by the marine waters of the Strait of Juan de Fuca and the Puget Sound. Jefferson County's small GS workforce consists mostly of Department of Navy positions located at Naval Magazine Indian Island, across the Puget Sound from Seattle.

With Jefferson County included in the Seattle locality pay area, Clallam County, WA, would be completely bordered by water and a higher-paying locality pay area, so the Council recommended also including Clallam County in the Seattle locality pay area as an area of application.

Based on the Pay Agent's review of the Council's analysis of those two counties for locality pay in January 2024, the Pay Agent agrees with the Council's reasoning on those two counties. Accordingly, the Pay Agent agrees with the commenter and finds it prudent not to delay treating the counties the same as other similarly situated locations. Jefferson County and Clallam County, WA, are therefore being included in the Seattle, WA locality pay area in this final rule.

One commenter suggested that all GS employees should receive the same locality pay rates regardless of location after adjusting all GS pay rates nationwide so that they equal the GS pay rates now applicable in the San Jose-San Francisco-Oakland, CA, locality pay area, which currently has the highest locality pay percentage. Such an approach would not be permissible under current law. The ultimate goal of locality pay is to reduce pay disparities to the same extent in each locality pay area (5 U.S.C. 5304). Therefore, it is appropriate that locality rates differ between locations.

Expected Impact of This Rule

This rule establishes four new locality pay areas based on updated pay disparity data and adds many locations to existing locality pay areas as a result of using the revised criteria the Pay Agent has approved for areas of application. Wage rates for employees who receive GS locality pay will increase in these areas relative to the baseline as a result. However, when locality pay percentages are adjusted at the time of an annual pay adjustment, they are scaled to a targeted overall salary outlay, regardless of the number or composition of locality pay areas. Thus, the larger annual increases locations will receive as a result of being redesignated to a higher-paying locality pay area will be offset by the annual increases elsewhere being smaller than they would absent such redesignation. These changes will result in geographic differences in Federal salaries better reflecting the overall geographic differences in salary in line with statutory goals. In the proposed rule, OPM noted that this could affect Federal recruitment and retention across the U.S. and requested comments on this issue. However, OPM received no comments on the proposed rule establishing that recruitment and retention will be negatively impacted as a result of implementing these final regulations.

OPM expects that this rule will most directly impact approximately 33,300 GS employees. Modifying existing locality pay areas will affect approximately 17,100 GS employees, and establishing the four new locality pay areas will affect approximately 16,200 GS employees. As discussed above, other Federal employees who receive GS locality pay will be indirectly impacted at the time of an annual pay adjustment. Due to the scope of this rule, OPM does not anticipate that it will substantially impact local economies or have a large ripple effect in local labor markets.

OPM is highly interested in any impacts of locality pay adjustments resulting from this rulemaking and will continue to study the implications of such impacts as needed.

Regulatory Review

Executive Orders 13563, 12866, and 14094 direct agencies to assess all costs and benefits of available regulatory alternatives and, if regulation is necessary, to select regulatory approaches that maximize net benefits (including potential economic, environmental, public health and safety effects, distributive impacts, and equity). This rule is not a “significant regulatory action” under the provisions of Executive Order 14094 and, therefore, was not reviewed by OMB.

Regulatory Flexibility Act

The Director of OPM certifies that this rule will not have a significant economic impact on a substantial number of small entities because this rule will affect only Federal agencies and employees.

Federalism

OPM examined this rule in accordance with Executive Order 13132, Federalism, and determined that it will not have any negative impact on the rights, roles and responsibilities of State, local, or tribal governments.

Civil Justice Reform

This rule meets the applicable standard set forth in Executive Order 12988.

Unfunded Mandates Reform Act of 1995

This rule will not result in the expenditure by state, local, and tribal governments, in the aggregate, or by the private sector, of $100 million or more in any year and it will not significantly or uniquely affect small governments. Therefore, no actions were deemed necessary under the provisions of the Unfunded Mandates Reform Act of 1995.

Congressional Review Act

Subtitle E of the Small Business Regulatory Enforcement Fairness Act of 1996 (known as the Congressional Review Act or CRA) (5 U.S.C. 801 et seq.) requires most final rules to be submitted to Congress before taking effect. OPM will submit to Congress and the Comptroller General of the United States a report regarding the issuance of this rule before its effective date. The Office of Information and Regulatory Affairs in the Office of Management and Budget has determined that this rule is not a major rule as defined by the CRA (5 U.S.C. 804).

Paperwork Reduction Act

This rule does not impose or affect any reporting or record-keeping requirements subject to the Paperwork Reduction Act.

List of Subjects in 5 CFR Part 531

Government employees, Law enforcement officers, Wages.

Office of Personnel Management.
Kayyonne Marston,
Federal Register Liaison.

Accordingly, OPM amends 5 CFR part 531 as follows:

PART 531—PAY UNDER THE GENERAL SCHEDULE

1. The authority citation for part 531 continues to read as follows:

Authority: 5 U.S.C. 5115, 5307, and 5338; sec. 4 of Public Law 103-89, 107 Stat. 981; and E.O. 12748, 56 FR 4521, 3 CFR, 1991 Comp., p. 316; Subpart B also issued under 5 U.S.C. 5303(g), 5305, 5333, 5334(a) and (b), and 7701(b)(2); Subpart D also issued under 5 U.S.C. 5335 and 7701(b)(2); Subpart E also issued under 5 U.S.C. 5336; Subpart F also issued under 5 U.S.C. 5304, 5305, and 5941(a); E.O. 12883, 58 FR 63281, 3 CFR, 1993 Comp., p. 682; and E.O. 13106, 63 FR 68151, 3 CFR, 1998 Comp., p. 224.

Subpart F—Locality-Based Comparability Payments

2. In § 531.602, the definitions of CSA and MSA are revised to read as follows:

§ 531.602 Definitions.

* * * * *

CSA means the geographic scope of a Combined Statistical Area, as defined by the Office of Management and Budget (OMB) in OMB Bulletin No. 20-01.

* * * * *

MSA means the geographic scope of a Metropolitan Statistical Area, as defined by the Office of Management and Budget (OMB) in OMB Bulletin No. 20-01.

* * * * *

3. In § 531.603, paragraph (b) is revised to read as follows:

§ 531.603 Locality pay areas.

* * * * *

(b) The following are locality pay areas for the purposes of this subpart:

(1) Alaska—consisting of the State of Alaska;

(2) Albany-Schenectady, NY-MA—consisting of the Albany-Schenectady, NY CSA and also including Berkshire County, MA, Greene County, NY, and Hamilton County, NY;

(3) Albuquerque-Santa Fe-Las Vegas, NM—consisting of the Albuquerque-Santa Fe-Las Vegas, NM CSA and also including Cibola County, NM, and McKinley County, NM;

(4) Atlanta—Athens-Clarke County—Sandy Springs, GA-AL—consisting of the Atlanta—Athens-Clarke County—Sandy Springs, GA-AL CSA and also including Cherokee County, AL, Cleburne County, AL, Lee County, AL, Randolph County, AL, Russell County, AL, Banks County, GA, Chattahoochee County, GA, Elbert County, GA, Franklin County, GA, Gilmer County, GA, Gordon County, GA, Greene County, GA, Harris County, GA, Lumpkin County, GA, Marion County, GA, Muscogee County, GA, Putnam County, GA, Rabun County, GA, Stewart County, GA, Talbot County, GA, Taliaferro County, GA, and White County, GA;

(5) Austin-Round Rock-Georgetown, TX—consisting of the Austin-Round Rock-Georgetown, TX MSA and also including Blanco County, TX, Burnet County, TX, Lee County, TX, and Milam County, TX;

(6) Birmingham-Hoover-Talladega, AL—consisting of the Birmingham-Hoover-Talladega, AL CSA and also including Calhoun County, AL, Clay County, AL, Coosa County, AL, Etowah County, AL, Greene County, AL, Hale County, AL, Pickens County, AL, Tallapoosa County, AL, Tuscaloosa County, AL, and Winston County, AL;

(7) Boston-Worcester-Providence, MA-RI-NH-CT-ME-VT—consisting of the Boston-Worcester-Providence, MA-RI-NH-CT CSA and also including Androscoggin County, ME, Cumberland County, ME, Sagadahoc County, ME, York County, ME, Dukes County, MA, Nantucket County, MA, Carroll County, NH, Cheshire County, NH, Grafton County, NH, Sullivan County, NH, Orange County, VT, and Windsor County, VT;

(8) Buffalo-Cheektowaga-Olean, NY—consisting of the Buffalo-Cheektowaga-Olean, NY CSA and also including Allegany County, NY, and Wyoming County, NY;

(9) Burlington-South Burlington-Barre, VT—consisting of the Burlington-South Burlington-Barre, VT CSA and also including Addison County, VT, and Lamoille County, VT;

(10) Charlotte-Concord, NC-SC—consisting of the Charlotte-Concord, NC-SC CSA and also including Alexander County, NC, Burke County, NC, Caldwell County, NC, Catawba County, NC, and Chesterfield County, SC;

(11) Chicago-Naperville, IL-IN-WI—consisting of the Chicago-Naperville, IL-IN-WI CSA and also including Boone County, IL, Iroquois County, IL, Ogle County, IL, Stephenson County, IL, Winnebago County, IL, and Starke County, IN;

(12) Cincinnati-Wilmington-Maysville, OH-KY-IN—consisting of the Cincinnati-Wilmington-Maysville, OH-KY-IN CSA and also including Ripley County, IN, Switzerland County, IN, Carroll County, KY, Fleming County, KY, Lewis County, KY, Owen County, KY, Robertson County, KY, Adams County, OH, and Highland County, OH;

(13) Cleveland-Akron-Canton, OH-PA—consisting of the Cleveland-Akron-Canton, OH CSA and also including Ashland County, OH, Columbiana County, OH, Crawford County, OH, Harrison County, OH, Holmes County, OH, Mahoning County, OH, Richland County, OH, Trumbull County, OH, and Mercer County, PA;

(14) Colorado Springs, CO—consisting of the Colorado Springs, CO MSA and also including Fremont County, CO, and Pueblo County, CO;

(15) Columbus-Marion-Zanesville, OH—consisting of the Columbus-Marion-Zanesville, OH CSA and also including Coshocton County, OH, Hardin County, OH, Morgan County, OH, Noble County, OH, Pike County, OH, and Vinton County, OH;

(16) Corpus Christi-Kingsville-Alice, TX—consisting of the Corpus Christi-Kingsville-Alice, TX CSA and also including Brooks County, TX, Live Oak County, TX, and Refugio County, TX;

(17) Dallas-Fort Worth, TX-OK—consisting of the Dallas-Fort Worth, TX-OK CSA and also including Carter County, OK, Love County, OK, Delta County, TX, Hill County, TX, Hopkins County, TX, Jack County, TX, Montague County, TX, Rains County, TX, Somervell County, TX, and Van Zandt County, TX;

(18) Davenport-Moline, IA-IL—consisting of the Davenport-Moline, IA-IL CSA and also including Carroll County, IL, Lee County, IL, Whiteside County, IL, Cedar County, IA, Jackson County, IA, and Louisa County, IA;

(19) Dayton-Springfield-Kettering, OH—consisting of the Dayton-Springfield-Kettering, OH CSA and also including Allen County, OH, Auglaize County, OH, Mercer County, OH, Preble County, OH, and Van Wert County, OH;

(20) Denver-Aurora, CO—consisting of the Denver-Aurora, CO CSA and also including Larimer County, CO, and Lincoln County, CO;

(21) Des Moines-Ames-West Des Moines, IA—consisting of the Des Moines-Ames-West Des Moines, IA CSA and also including Adair County, IA, Clarke County, IA, Greene County, IA, Hamilton County, IA, Lucas County, IA, Monroe County, IA, and Poweshiek County, IA;

(22) Detroit-Warren-Ann Arbor, MI—consisting of the Detroit-Warren-Ann Arbor, MI CSA and also including Clinton County, MI, Eaton County, MI, Huron County, MI, Ingham County, MI, Jackson County, MI, Sanilac County, MI, Shiawassee County, MI, and Tuscola County, MI;

(23) Fresno-Madera-Hanford, CA—consisting of the Fresno-Madera-Hanford, CA CSA and also including Mariposa County, CA, and Tulare County, CA;

(24) Harrisburg-Lebanon, PA—consisting of the Harrisburg-York-Lebanon, PA CSA, except for Adams County, PA, and York County, PA, and also including Juniata County, PA, and Lancaster County, PA;

(25) Hartford-East Hartford, CT-MA—consisting of the Hartford-East Hartford, CT CSA and also including Franklin County, MA, Hampden County, MA, and Hampshire County, MA;

(26) Hawaii—consisting of the State of Hawaii;

(27) Houston-The Woodlands, TX—consisting of the Houston-The Woodlands, TX CSA and also including Colorado County, TX, Grimes County, TX, Jackson County, TX, Madison County, TX, San Jacinto County, TX, and Trinity County, TX;

(28) Huntsville-Decatur, AL-TN—consisting of the Huntsville-Decatur, AL CSA and also including Colbert County, AL, DeKalb County, AL, Lauderdale County, AL, Marshall County, AL, and Lincoln County, TN;

(29) Indianapolis-Carmel-Muncie, IN—consisting of the Indianapolis-Carmel-Muncie, IN CSA and also including Benton County, IN, Blackford County, IN, Carroll County, IN, Clinton County, IN, Fayette County, IN, Fountain County, IN, Grant County, IN, Lawrence County, IN, Monroe County, IN, Owen County, IN, Randolph County, IN, Rush County, IN, Tippecanoe County, IN, Tipton County, IN, Warren County, IN, and Wayne County, IN;

(30) Kansas City-Overland Park-Kansas City, MO-KS—consisting of the Kansas City-Overland Park-Kansas City, MO-KS CSA and also including Anderson County, KS, Jackson County, KS, Jefferson County, KS, Osage County, KS, Shawnee County, KS, Wabaunsee County, KS, Carroll County, MO, Daviess County, MO, Gentry County, MO, Henry County, MO, and Holt County, MO;

(31) Laredo, TX—consisting of the Laredo, TX MSA and also including Jim Hogg County, TX, and La Salle County, TX;

(32) Las Vegas-Henderson, NV-AZ—consisting of the Las Vegas-Henderson, NV CSA and also including Mohave County, AZ;

(33) Los Angeles-Long Beach, CA—consisting of the Los Angeles-Long Beach, CA CSA and also including Imperial County, CA, Kern County, CA, San Luis Obispo County, CA, and Santa Barbara County, CA;

(34) Miami-Port St. Lucie-Fort Lauderdale, FL—consisting of the Miami-Port St. Lucie-Fort Lauderdale, FL CSA and also including Okeechobee County, FL;

(35) Milwaukee-Racine-Waukesha, WI—consisting of the Milwaukee-Racine-Waukesha, WI CSA and also including Fond du Lac County, WI, and Sheboygan County, WI;

(36) Minneapolis-St. Paul, MN-WI—consisting of the Minneapolis-St. Paul, MN-WI CSA and also including Blue Earth County, MN, Brown County, MN, Dodge County, MN, Fillmore County, MN, Kanabec County, MN, Meeker County, MN, Morrison County, MN, Mower County, MN, Nicollet County, MN, Olmsted County, MN, Pine County, MN, Sibley County, MN, Wabasha County, MN, Waseca County, MN, and Polk County, WI;

(37) New York-Newark, NY-NJ-CT-PA—consisting of the New York-Newark, NY-NJ-CT-PA CSA and also including Warren County, NJ, Sullivan County, NY, Carbon County, PA, Lehigh County, PA, Northampton County, PA, Wayne County, PA, and all of Joint Base McGuire-Dix-Lakehurst;

(38) Omaha-Council Bluffs-Fremont, NE-IA—consisting of the Omaha-Council Bluffs-Fremont, NE-IA CSA and also including Fremont County, IA, Shelby County, IA, and Burt County, NE;

(39) Palm Bay-Melbourne-Titusville, FL—consisting of the Palm Bay-Melbourne-Titusville, FL MSA;

(40) Philadelphia-Reading-Camden, PA-NJ-DE-MD—consisting of the Philadelphia-Reading-Camden, PA-NJ-DE-MD CSA, except for Joint Base McGuire-Dix-Lakehurst, and also including Sussex County, DE, Somerset County, MD, Wicomico County, MD, Worcester County, MD, and Schuylkill County, PA;

(41) Phoenix-Mesa, AZ—consisting of the Phoenix-Mesa, AZ CSA;

(42) Pittsburgh-New Castle-Weirton, PA-OH-WV—consisting of the Pittsburgh-New Castle-Weirton, PA-OH-WV CSA and also including Belmont County, OH, Cambria County, PA, Greene County, PA, Somerset County, PA, Marshall County, WV, and Ohio County, WV;

(43) Portland-Vancouver-Salem, OR-WA—consisting of the Portland-Vancouver-Salem, OR-WA CSA and also including Wahkiakum County, WA;

(44) Raleigh-Durham-Cary, NC—consisting of the Raleigh-Durham-Cary, NC CSA and also including Caswell County, NC, Cumberland County, NC, Edgecombe County, NC, Halifax County, NC, Harnett County, NC, Hoke County, NC, Lee County, NC, Moore County, NC, Nash County, NC, Northampton County, NC, Robeson County, NC, Scotland County, NC, Warren County, NC, Wayne County, NC, and Wilson County, NC;

(45) Reno-Fernley, NV—consisting of the Reno-Carson City-Fernley, NV CSA, except for Carson City, NV, and Douglas County, NV, and also including Churchill County, NV;

(46) Richmond, VA—consisting of the Richmond, VA MSA and also including Brunswick County, VA, Cumberland County, VA, Essex County, VA, Greensville County, VA, Louisa County, VA, Nottoway County, VA, and Emporia city, VA;

(47) Rochester-Batavia-Seneca Falls, NY—consisting of the Rochester-Batavia-Seneca Falls, NY CSA;

(48) Sacramento-Roseville, CA-—consisting of the Sacramento-Roseville, CA CSA and also including Alpine County, CA, Amador County, CA, Butte County, CA, Colusa County, CA, Sierra County, CA, Carson City, NV, and Douglas County, NV;

(49) San Antonio-New Braunfels-Pearsall, TX—consisting of the San Antonio-New Braunfels-Pearsall, TX CSA and also including Gillespie County, TX, Gonzales County, TX, Karnes County, TX, Kerr County, TX, and McMullen County, TX;

(50) San Diego-Chula Vista-Carlsbad, CA—consisting of the San Diego-Chula Vista-Carlsbad, CA MSA;

(51) San Jose-San Francisco-Oakland, CA—consisting of the San Jose-San Francisco-Oakland, CA CSA and also including Calaveras County, CA, and Monterey County, CA;

(52) Seattle-Tacoma, WA—consisting of the Seattle-Tacoma, WA CSA and also including Clallam County, WA, Grays Harbor County, WA, Jefferson County, WA, Pacific County, WA, San Juan County, WA, and Whatcom County, WA;

(53) Spokane-Spokane Valley-Coeur d'Alene, WA-ID—consisting of the Spokane-Spokane Valley-Coeur d'Alene, WA-ID CSA and also including Benewah County, ID, Shoshone County, ID, Ferry County, WA, Lincoln County, WA, and Pend Oreille County, WA;

(54) St. Louis-St. Charles-Farmington, MO-IL—consisting of the St. Louis-St. Charles-Farmington, MO-IL CSA and also including Fayette County, IL, Greene County, IL, Montgomery County, IL, Randolph County, IL, Washington County, IL, Crawford County, MO, Gasconade County, MO, Iron County, MO, Madison County, MO, Montgomery County, MO, Pike County, MO, Ste. Genevieve County, MO, and Washington County, MO;

(55) Tucson-Nogales, AZ—consisting of the Tucson-Nogales, AZ CSA and also including Cochise County, AZ;

(56) Virginia Beach-Norfolk, VA-NC—consisting of the Virginia Beach-Norfolk, VA-NC CSA and also including Chowan County, NC, Hertford County, NC, Tyrrell County, NC, Middlesex County, VA, and Surry County, VA;

(57) Washington-Baltimore-Arlington, DC-MD-VA-WV-PA—consisting of the Washington-Baltimore-Arlington, DC-MD-VA-WV-PA CSA and also including Allegany County, MD, Caroline County, MD, Dorchester County, MD, Kent County, MD, Adams County, PA, Fulton County, PA, York County, PA, Caroline County, VA, King George County, VA, Orange County, VA, Shenandoah County, VA, Westmoreland County, VA, Hardy County, WV, and Mineral County, WV; and

(58) Rest of U.S.—consisting of those portions of the United States and its territories and possessions as listed in 5 CFR 591.205 not located within another locality pay area.

[FR Doc. 2023-25153 Filed 11-15-23; 8:45 am]

BILLING CODE 6325-39-P